DEPARTMENT OF TRANSPORTATION

Office of the Secretary

[Docket OST-00-8254]

Application of Orlando Air Link, Inc. for Issuance of Commuter Air Carrier Authority

AGENCY: Department of Transportation.

ACTION: Notice of order to show cause (Order 2001-6-19).

SUMMARY: The Department of Transportation is directing all interested persons to show cause why it should not issue an order finding that Orlando Air Link, Inc., is fit, willing, and able, to provide commuter air carrier service under 49 U.S.C. 41738.

DATES: Persons wishing to file objections should do so no later than July 10, 2001.

ADDRESSES: Objections and answers to objections should be filed in Docket OST-00-8254 and addressed to Department of Transportation Dockets (SVC-124, Room PL-401), 400 Seventh Street, SW., Washington, DC 20590 and should be served upon the parties listed in Attachment A to the order.

FOR FURTHER INFORMATION CONTACT: Mr. Howard Serig, Air Carrier Fitness Division (X-56, Room 6401) U.S. Department of Transportation, 400 Seventh Street, SW., Washington, DC 20590, (202) 366-4822.

Dated: June 21, 2001.
Robert S. Goldner,
Special Counsel, Office of Aviation and International Affairs.

[FR Doc. 01-16178 Filed 6-26-01; 8:45 am]

BILLING CODE 4910-62-P